DEPARTMENT OF THE TREASURY

Internal Revenue Service

26 CFR Part 300

[REG-124018-10]

RIN 1545-BJ65

User Fees Relating to Enrolled Agents and Enrolled Retirement Plan Agents; Hearing Cancellation

AGENCY: Internal Revenue Service (IRS), Treasury.

ACTION: Cancellation of notice of public hearing on proposed rulemaking.

SUMMARY: This document cancels a public hearing on proposed rulemaking that amends the regulations relating to the imposition of user fees for enrolled agents and enrolled retirement plan agents.

DATES: The public hearing, originally scheduled for January 14, 2011, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Friday, December 10, 2010 (75 FR 76940), announced that a public hearing was scheduled for January 14, 2011, at 10 a.m., in the auditorium, Internal Revenue Building, 1111 Constitution Avenue, NW., Washington, DC. The subject of the public hearing is under section 300 of the Internal Revenue Code.

The public comment period for these regulations expired on January 10, 2011. Outlines of topics to be discussed at the hearing were due on January 5, 2011. The notice of proposed rulemaking and notice of public hearing instructed those interested in testifying at the public hearing to submit an outline of the topics to be addressed. As of Wednesday, January 12, 2011, the taxpayer, who wished to present oral comments, has requested to withdraw. Therefore, the public hearing scheduled for January 14, 2011, is cancelled.

LaNita Van Dyke,
Chief, Publications and Regulations Branch, Legal Processing Division, Associate Chief Counsel (Procedure and Administration).

[FR Doc. 2011-921 Filed 1-12-11; 4:15 pm]

BILLING CODE 4830-01-P